DEPARTMENT OF THE INTERIOR

National Park Service

Notice of Availability of the Record of Decision for the Final General Management Plan/Environmental Impact Statement, Fort Frederica National Monument, Georgia

SUMMARY: On November 15, 2002, the Director, Southeast Region, approved the Record of Decision for the Final General Management Plan (GMP) and Environmental Impact Statement (EIS) for Fort Frederica National Monument. The purpose of the Record of Decision (ROD) is to document the National Park Service (NPS) selection of the proposed action for the final GMP/EIS. The plan is designed to afford a high level of protection to the national monument's resources and to provide for appropriate types and levels of high quality visitor experiences. This will be accomplished through management zoning and suitable interpretive methods and strategies including but not limited to costumed demonstrations, encampments, ghost structures, period landscape plantings, and living history demonstrations.

Management zones will provide guidance for managing specific areas for desired resource conditions and visitor experiences. The Historic Preservation zone, which encompasses the entire historic town site as well as Old Military Road and the burial ground, will be the focus of the greatest visitor activities including ranger led tours, encampments, crafts demonstrations, and costumed interpretation. The marshes on the northwest side of the National Monument as well as the western side of the Frederica River will be a Natural Resource Protection zone in which natural processes and natural ecosystem succession will predominate. The same will be true of the marshy areas and the wooded area on the northeast corner of the Bloody Marsh Memorial site. Other management zones will provide for potential natural resource based recreation, park administrative, visitor service, and maintenance purposes.

The selected management alternative will emphasize the daily life, lifestyles and events associated with the inhabitants of Fort Frederica, and the colonial military settlement on Saint Simons Island. The goal will be to give the visitor some idea (within the context of current laws regarding sanitation, solid waste disposal, air/water pollution, etc.) of the sights, sounds, smells, and other experiences that would have been typical in this bustling British Army outpost. Since the 1940s, at least 40 archeological field investigations at Fort Frederica have been conducted to reveal vital information about the people and events associated with this military settlement. Thousands of artifacts that were recovered through archeological investigations are housed in the Monument's museum collection and the storage facilities of the Southeast Archeological Center in Tallahassee, Florida. These artifacts, along with other information obtained through the field investigations, play an important role in telling the story of Fort Frederica to the visitor.

Archeological field investigations will continue to be an important attribute of this alternative. There will be a strong archeological research effort to provide information on landscape elements, lifestyles, important events, and other features of the settlement.

The plan designates the area presently occupied by the visitor center/administrative complex and the parking lot as part of the Historic Preservation Zone. As a result, when the current visitor center/administrative complex becomes functionally obsolete, the National Monument will seek authority and funding to demolish the facility and build a new visitor center in a currently developed or previously disturbed area that is not visible from the historic town site. The area formerly occupied by the visitor center, entrance drive, and parking would be cleared and reforested. Existing park residences would be converted to office and administrative space.

Entrance and access to the site would then more accurately mirror colonial conditions and experience. Although the relocated visitor center might be as much as 200-300 yards more distant from the town site than the present one, the enhanced visitor experience will more than counterbalance the slightly greater distance. This alternative envisions a visitor walking down a wooded path from the visitor center to the town site, gradually leaving the sights and sounds of the modern visitor center and parking lot and entering a different place and time where views in all directions would be uninterrupted by modern structures, vehicles or other intrusions on the historic scene. Although there will be no attempt to recreate the palisades, homes and other elements of the colonial settlement, the setting will be similar to that experienced by the original British colonists when they first arrived. Americans with Disabilities Act concerns could be addressed by developing a new and improved visitor center film or video, new exhibits and displays, active interpretive efforts by park staff and volunteer costumed interpreters.

The NPS has identified and incorporated into the selected action all practical measures to avoid or minimize environmental impacts that could result from its implementation. These measures are presented in detail in the Final General Management Plan/Environmental Impact Statement.

The full ROD includes a statement of the decision made, synopses of other alternatives considered, the rationale for the decision, a description of the environmentally preferred alternative, a determination of non-impairment of park resources and values, a listing of measures to minimize environmental harm, an overview of public involvement in the decision-making process, and a statement regarding section 7 of the Endangered Species Act.

Basis for Decision

In reaching its decision to select the preferred alternative, the NPS considered the purposes for which Fort Frederica National Monument was established, and other laws and policies that apply to lands in the monument, such as the National Park Service Organic Act, National Environmental Policy Act, and the NPS Management Policies. The NPS also carefully considered public comments received during the planning process.

To develop a preliminary preferred alternative, the planning team evaluated three action alternatives that were reviewed by the public as well as the required no-action alternative. To minimize the influence of individual biases and opinions, the team used an objective analysis process called “Choosing by Advantages.” This process has been used extensively by government agencies and the private sector.

DATES: The Record of Decision for the Final General Management Plan (GMP) and Environmental Impact Statement (EIS) for Fort Frederica National Monument was signed by the Director, Southeast Region for the National Park Service on November 15, 2002.

ADDRESSES: Fort Frederica National Monument, Route 9, Box 286C, St. Simons Island, Georgia 31522.

FOR FURTHER INFORMATION CONTACT: Superintendent, Fort Frederica National Monument, (912) 638-3639.

SUPPLEMENTARY INFORMATION: A copy of the Record of Decision on the Final General Management Plan for Fort Frederica National Monument can be obtained via the Internet by visiting the NPS Web site at http://planning.den.nps.gov/ or by calling 404-562-3124, ext. 685.

Dated: December 18, 2002.
Patricia A. Hooks,
Acting Regional Director, Southeast Region.

[FR Doc. 03-7952 Filed 4-1-03; 8:45 am]

BILLING CODE 4310-70-P